DEPARTMENT OF LABOR

Employment and Training Administration

[TA-W-38,750]

Porex Technologies, College Point, NY; Dismissal of Application for Reconsideration

Pursuant to 29 CFR 90.18(C) an application for administrative reconsideration was filed with the Director of the Division of Trade Adjustment Assistance for workers at Porex Technologies, College Point, New York. The application contained no new substantial information which would bear importantly on the Department's determination. Therefore, dismissal of the application was issued.

TA-W-38,750; Porex Technologies

College Point, New York (November 1, 2001)

Signed at Washington, DC, this 5th day of November, 2001.
Edward A. Tomchick,
Director, Division of Trade Adjustment Assistance.

[FR Doc. 01-28178 Filed 11-8-01; 8:45 am]

BILLING CODE 4510-30-M